DEPARTMENT OF DEFENSE

Department of the Army

[Docket ID USA-2019-HQ-0027]

Submission for OMB Review; Comment Request

AGENCY: Department of the Army, DoD.

ACTION: 30-Day information collection notice.

SUMMARY: The Department of Defense has submitted to OMB for clearance the following proposal for collection of information under the provisions of the Paperwork Reduction Act.

DATES: Consideration will be given to all comments received by January 21, 2020.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: USMA Admissions Procedures; USMA Form 5-518, 5-490, 2-66, 847, 5-489, 5-519, 8-2, 5-599, 480-1; OMB Control Number 0702-0060.

USMA Pre-Candidate Procedures

Type of Request: Reinstatement.

Number of Respondents: 75,000.

Responses per Respondent: 1.

Annual Responses: 75,000.

Average Burden per Response: 25 minutes.

Annual Burden Hours: 31,250.

USMA Candidate Procedures

Type of Request: Reinstatement.

Number of Respondents: 53,800.

Responses per Respondent: 1.

Annual Responses: 53,800.

Average Burden per Response: 20 minutes.

Annual Burden Hours: 17,933.

Offered Candidate Procedures

Type of Request: Reinstatement.

Number of Respondents: 46,880.

Responses per Respondent: 1.

Annual Responses: 46,880.

Average Burden per Response: 15 minutes.

Annual Burden Hours: 11,720.

Needs and Uses: Due to the advent of USMA technology, the collection of information for Pre-Candidates (0702-0060), Candidates (0702-0061) and Accepted Candidates (0702-0062) are now collected from the single on-line Department of Admissions website. Henceforth, based on this electronic modernization upgrade and intersection of information this collection is updated to reflect a single collection (0702-0060) that encompasses all three distinct phases: Pre-Candidate Procedures, Candidate Procedures, and Accepted Candidate Procedures.

Affected Public: Individuals or Households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: December 13, 2019.
Morgan E. Park,
Alternate OSD Federal Register Liaison Officer, Department of Defense.

[FR Doc. 2019-27362 Filed 12-18-19; 8:45 am]

BILLING CODE 5001-06-P